GENERAL SERVICES ADMINISTRATION

[OMB Control No. 3090-0308; Docket No. 2018-0001; Sequence No. 20]

General Services Administration Acquisition Regulation (GSAR); Construction Contract Administration

AGENCY: Office of Acquisition Policy, General Services Administration (GSA).

ACTION: Notice of request for comments regarding a new OMB information clearance.

SUMMARY: Under the provisions of the Paperwork Reduction Act, the Regulatory Secretariat Division will be submitting to the Office of Management and Budget (OMB) a request to review and approve a new information collection requirement regarding OMB Control No. 3090-0308, Construction Contract Administration.

DATES: Submit comments on or before January 25, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Submit comments via the Federal eRulemaking portal by searching the OMB control number. Select the link “Submit a Comment” that corresponds with “Information Collection 3090-0308, Construction Contract Administration”. Follow the instructions provided at the “Submit a Comment” screen. Please include your name, company name (if any), and “Information Collection 3090-0308, Construction Contract Administration” on your attached document.

• Mail: General Services Administration, Regulatory Secretariat Division (MVCB), 1800 F Street NW, Washington, DC 20405, ATTN: Ms. Mandell/IC 3090-0308, Construction Contract Administration.

Instructions: Please submit comments only and cite Information Collection 3090-0308, Construction Contract Administration, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Tony Hubbard, General Services Acquisition Policy Division, GSA, by phone at 202-357-5810 or by email at tony.hubbard@gsa.gov.

SUPPLEMENTARY INFORMATION:

A. Purpose

A request for public comments was published in the Federal Register at 81 FR 62434 on September 9, 2016, as part of a proposed rule under GSAR Case 2015-G503. No comments were received on the information collection.

B. Annual Reporting Burden

The Paperwork Reduction Act (44 U.S.C. Chapter 35) does apply because the final rule contains six clauses and provisions with information collection requirements. However, five of these clauses and provisions do not impose additional information collection requirements to the paperwork burden previously approved under existing OMB Control Numbers. Only one of the six involves information collection requirements that have not previously been approved by OMB.

The new clause at GSAR 552.236-72 Submittals involves an existing information collection requirement that has never been previously approved by OMB. The information collected is used by PBS to evaluate a contractor's proposals, negotiate contract modifications, evaluate a contractor's progress, and review payment requests during contract administration. The clause was previously GSAR 552.236-78 Shop Drawings, Coordination Drawings, and Schedules. The clause is simplified, including removing the requirement for a specific number of prints and copies of various submittals. This simplification will ease the compliance burden for the contractor during contract administration from the current state.

Public reporting burden for GSAR 552.236-72 Submittals is estimated to average 8 hours per response, including the time for reviewing instructions, searching existing data sources, gathering and maintaining the data needed, and completing and reviewing the collection of information.

The annual reporting burden is estimated as follows:

Respondents: 3,758.

Responses per respondent: 1.

Total annual responses: 3,758.

Preparation hours per response: 8.

Total response burden hours: 30,064.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW, Washington, DC 20405, telephone 202-501-4755. Please cite OMB Control Number 3090-0308, Construction Contract Administration, in all correspondence.

Jeffrey A. Koses,
Director, Office of Acquisition Policy, Office of Government-wide Policy.

[FR Doc. 2018-27885 Filed 12-21-18; 8:45 am]

BILLING CODE 6820-61-P